DEPARTMENT OF COMMERCE

National Oceanic and Atmospheric Administration

50 CFR Part 660

[I.D. 061404A]

RIN 0648-AS26

Fisheries Off West Coast States and in the Western Pacific; Notice of Availability of Amendment 16-3 to the Pacific Coast Groundfish Fishery Management Plan

AGENCY: National Marine Fisheries Service (NMFS), National Oceanic and Atmospheric Administration (NOAA), Commerce.

ACTION: Notice of availability of an amendment to a fishery management plan; request for comments.

SUMMARY: NMFS announces that the Pacific Fishery Management Council (Pacific Council) has submitted Amendment 16-3 to the Pacific Coast Groundfish Fishery Management Plan (FMP) for Secretarial review. Amendment 16-3 would amend the FMP to include overfished species rebuilding plans for bocaccio, cowcod, widow rockfish, and yelloweye rockfish. Amendment 16-3 is intended to address the requirements of the Magnuson-Stevens Fishery Conservation and Management Act (Magnuson-Stevens Act) to protect and rebuild overfished species managed under a Federal FMP. Amendment 16-3 is also intended to respond, in part, to a Court order in which NMFS was ordered to provide Pacific Coast groundfish rebuilding plans as FMPs, FMP amendments, or regulations, as required by the Magnuson-Stevens Act.

DATES: Comments on Amendment 16-3 must be received on or before August 17, 2004.

ADDRESSES: Copies of Amendment 16-3 and the Environmental Impact Statement/Regulatory Impact Review/Initial Regulatory Flexibility Analysis for the amendment are available from Donald McIsaac, Executive Director, Pacific Fishery Management Council, 7700 NE Ambassador Place, Portland, OR 97220.

You may submit comments on Amendment 16-3 or supporting documents, identified by [RIN 0648-AS26], by any of the following methods:

• Federal eRulemaking Portal: http://www.regulations.gov. Follow the instructions for submitting comments.

• E-mail: Amendment16-3NOA.nwr@noaa.gov. Include the RIN number in the subject line of the message.

• Fax: 206-526-6736, Attn: Jamie Goen.

• Mail: D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Jamie Goen (Northwest Region, NMFS), phone: 206-526-4646; fax: 206-526-6736; or e-mail: jamie.goen@noaa.gov.

SUPPLEMENTARY INFORMATION:

Electronic Access

This Federal Register document is also accessible via the internet at the website of the Office of the Federal Register: http://www.gpoaccess.gov/fr/index.html.

Background

The Magnuson-Stevens Act requires each regional fishery management council to submit fishery management plans or plan amendments to NMFS for review and approval, disapproval, or partial approval. The Magnuson-Stevens Act also requires NMFS, immediately upon receiving a fishery management plan or plan amendment, to publish notification in the Federal Register that the fishery management plan or plan amendment is available for public review and comment. At the end of the comment period, NMFS considers the public comments received during the comment period described above in determining whether to approve, partially approve, or disapprove the fishery management plan or plan amendment.

This notice of availability announces an amendment, Amendment 16-3, to the FMP to include overfished species rebuilding plans for bocaccio, cowcod, widow rockfish, and yelloweye rockfish. NMFS declared the bocaccio stock overfished on March 3, 1999 in a letter from NMFS to the Pacific Council announcing partial approval of Amendment 11 to the groundfish FMP, which approved the overfishing definition. Cowcod was declared overfished on January 4, 2000 (65 FR 221), widow rockfish on January 11, 2001 (66 FR 2338) and yelloweye rockfish on January 11, 2002 (67 FR 1555). Because the spawning stock biomass levels for these stocks were determined to be below the minimum stock size threshold defined by the FMP, rebuilding plans need to be implemented to return the stocks to their maximum sustainable yield biomass levels (target biomass).

The rebuilding plans being adopted under Amendment 16-3 were approved by the Pacific Council at its April 2004 meeting. These rebuilding plans specify rebuilding parameters for individual stocks and are intended to address the Magnuson-Stevens Act requirement to protect and rebuild overfished species, in particular National Standard 1 on overfishing and Section 304(e). When making the recommendation to implement these rebuilding plans, the Pacific Council sought to balance the rebuilding risks to each stock with the short and long-term socio-economic costs borne by groundfish buyers, commercial harvesters, and recreational operators as a result of constraining the fisheries to reduce total mortality of these overfished species. Amendment 16-3 is based on the policies and rebuilding parameters established by Amendment 16-1.

On August 18, 2003 (68 FR 49415), NMFS published a notice of availability for Amendment 16-1 to the FMP and approved the amendment on November 14, 2003. The final rule to codify provisions of Amendment 16-1 was published in the Federal Register on February 26, 2004 (69 FR 8861). Amendment 16-1 amended the FMP by requiring that Pacific Coast groundfish overfished species rebuilding plans be added into the FMP via FMP amendment and implemented through Federal regulations. For each approved overfished species rebuilding plan, the following parameters are to be specified in the FMP: estimates of unfished biomass (B0) and target biomass (BMSY), the year the stock would be rebuilt in the absence of fishing (TMIN), the year the stock would be rebuilt if the maximum time period permissible under the national standard guidelines were applied (TMAX), the target year in which the stock would be rebuilt under the adopted rebuilding plan (TTARGET), and a harvest control rule. Other relevant information listed in Amendment 16-1 will also be included in the FMP, including the probability of the stock attaining BMSY by TMAX (PMAX).

As required by the standards in Amendment 16-1, the rebuilding plans under Amendment 16-3 for bocaccio, cowcod, widow rockfish, and yelloweye rockfish include estimates of unfished biomass and target biomass, the year the stock would be rebuilt in the absence of fishing, the year the stock would be rebuilt if the maximum time period permissible under the national standard guidelines were applied, the target year in which the stock would be rebuilt under the adopted rebuilding plan, and the harvest control rule for each species. Amendment 16-3 would add these parameters to section 4.5.4. of the FMP. Other relevant information on each of these overfished stocks, such as stock distribution, fishery interaction, and the rebuilding strategy would also be added to section 4.5.4 of the FMP. The information described above would be included in the FMP to serve as management benchmarks.

In addition, the final rule to Amendment 16-1 requires that the two rebuilding parameters needed to establish annual or biennial optimum yields (OYs) for overfished species be codified in Federal regulations (69 FR 8861, February 26, 2004). These parameters are the target year for rebuilding and the harvest control rule that is to be used during the rebuilding period. The target rebuilding year is the year in which there is a 50 percent probability that the stock will be rebuilt with a given mortality rate. The harvest control rule expresses a given fishing mortality rate that is to be used over the course of rebuilding, unless modified in a subsequent rulemaking.

An approved rebuilding plan will be implemented through setting OYs and establishing management measures necessary to maintain the fishing mortality within the OYs and to achieve objectives related to rebuilding requirements.

Public comments on Amendment 16-3 must be received by August 17, 2004, to be considered by NMFS in the decision whether to approve, disapprove, or partially approve Amendment 16-3. A proposed rule to implement Amendment 16-3 has been submitted for Secretarial review and approval. NMFS expects to publish and request public comments on proposed regulations to implement Amendment 16-3 in the near future.

Authority: 16 U.S.C. 1801 et seq.

Dated: June 14, 2004.
Alan D. Risenhoover,
Acting Director, Office of Sustainable Fisheries, National Marine Fisheries Service.

[FR Doc. 04-13730 Filed 6-17-04; 8:45 am]

BILLING CODE 3510-22-S